DEPARTMENT OF ENERGY

Proposed Subsequent Arrangement

AGENCY: Office of Nonproliferation and International Security, Department of Energy.

ACTION: Proposed subsequent arrangement.

SUMMARY: This notice is being issued under the authority of section 131a. of the Atomic Energy Act of 1954, as amended (hereinafter “the Act”). The Department is providing notice of a proposed subsequent arrangement under the Agreement for Cooperation Between the Government of the United States of America and the Government of Japan Concerning Peaceful Uses of Nuclear Energy, and the Agreement for Cooperation Between the Government of the United States of America and the Government of the Republic of Kazakhstan Concerning Peaceful Uses of Nuclear Energy.

DATES: This subsequent arrangement will take effect no sooner than September 6, 2013.

FOR FURTHER INFORMATION CONTACT: Mr. Sean Oehlbert, Office of Nonproliferation and International Security, National Nuclear Security Administration, Department of Energy. Telephone: 202-586-3806 or email: Sean.Oehlbert@nnsa.doe.gov.

SUPPLEMENTARY INFORMATION: This subsequent arrangement concerns the retransfer of 700,888 g of U.S.-origin natural uranium oxide material, containing 5,005 g of the isotope U-235 (0.71% enrichment) and 18,699,112 g of U.S.-origin enriched uranium oxide material, containing 654,386 g of the isotope U-235 (less than five percent enrichment) in the form of uranium fuel fabrication scrap from Nuclear Fuel Industries, Ltd. in Minato-Ku, Tokyo, Japan, to Ulba Metallurgical Plant Joint Stock Company in Ust-Kamenogorsk, Kazakhstan. The material, which is currently located at Nuclear Fuels Industries, Ltd. in Japan, will be transferred to Ulba Metallurgical Plant for the purpose of recovering uranium from fuel fabrication scrap where it will be fabricated into fuel pellets to be used by six electric utilities (Tohoku Electric Power Co., Inc., The Tokyo Electric Power Co., Inc., Chubu Electric Power Co., Inc., Hokuriku Electric Power Company, The Chugoku Electric Power Co., Inc., and the Japan Atomic Power Company). The material was originally obtained by Nuclear Fuel Industries, Ltd. from nuclear fuel manufacturers in the United States pursuant to several Nuclear Regulatory Commission licenses.

In accordance with section 131a. of the Act, it has been determined that this subsequent arrangement concerning the retransfer of nuclear material of United States origin will not be inimical to the common defense and security.

Dated: August 9, 2013.
For the Department of Energy.
Anne M. Harrington,
Deputy Administrator, Defense Nuclear Nonproliferation.

[FR Doc. 2013-20492 Filed 8-21-13; 8:45 am]

BILLING CODE 6450-01-P